DEPARTMENT OF TRANSPORTATION

Federal Aviation Administration

Research, Engineering and Development Advisory Committee Meeting

Pursuant to section 10(A)(2) of the Federal Advisory Committee Act (Public Law 92-463; 5 U.S.C. App. 2), notice is hereby given of a meeting of the FAA Research, Engineering and Development (R,E&D) Advisory Committee.

AGENCY: Federal Aviation Administration (FAA).

ACTION: Notice of meeting.

Name: Research, Engineering and Development Advisory Committee.

Time and Date: September 20—9 a.m. to 5 p.m., September 21—9 a.m. to 12 p.m.

Place: Federal Aviation Administration, 800 Independence Avenue, SW.,—Bessie Coleman Room, Washington, DC 20591.

Purpose: The meeting agenda will include receiving from the Committee guidance for FAA's research and development investments in the areas of air traffic services, airports, aircraft safety, human factors and environment and energy. We will also receive recommendations from the Air Traffic Services Transition Working Group. Attendance is open to the interested public but seating is limited. Persons wishing to attend the meeting or obtain information should contact Gloria Dunderman at (202) 267-8937 or gfloria.dunderman@faa. gov. Attendees will have to present picture ID at the security desk and escorted to the Bessie Coleman Room.

Members of the public may present a written statement to the Committee at any time.

Issued in Washington, DC on August 29, 2005.
Joan Bauerlein
Director of Operations Planning Research & Development.

[FR Doc. 05-17650 Filed 9-6-05; 8:45 am]

BILLING CODE 4910-13-M